DEPARTMENT OF COMMERCE

International Trade Administration

[C-570-142]

Certain Walk-Behind Snow Throwers and Parts Thereof From the People's Republic of China: Postponement of Preliminary Determination in the Countervailing Duty Investigation

AGENCY: Enforcement and Compliance, International Trade Administration, Department of Commerce.

DATES: Applicable June 8, 2021.

FOR FURTHER INFORMATION CONTACT: Kate Sliney or Alex Cipolla at (202) 482-0324 or (202) 482-4956, respectively, AD/CVD Operations, Office III, Enforcement and Compliance, International Trade Administration, U.S. Department of Commerce, 1401 Constitution Avenue NW, Washington, DC 20230.

SUPPLEMENTARY INFORMATION:

Background

On April 19, 2021, the Department of Commerce (Commerce) initiated a countervailing duty (CVD) investigation of imports of certain walk-behind snow throwers and parts thereof (snow throwers) from the People's Republic of China (China).¹ Currently, the preliminary determination is due no later than June 23, 2021.

¹ See Certain Walk-Behind Snow Throwers and Parts Thereof from the People's Republic of China: Initiation of Countervailing Duty Investigation, 86 FR 22022 (April 26, 2021) (Initiation Notice).

Postponement of Preliminary Determination

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is MTD Products, Inc.

On May 28, 2021, the petitioner submitted a timely request that Commerce postpone the preliminary CVD determination.³ The petitioner stated that it requests postponement “{t}o permit a thorough investigation and the calculation of the most accurate countervailing rates.” ⁴

³ See Petitioner's Letter, “Countervailing Duty Investigation of Certain Walk-Behind Snow Throwers and Parts Thereof from the People's Republic of China: Petitioner's Request to Postpone the Preliminary Determination,” dated May 28, 2021.

⁴ Id.

In accordance with 19 CFR 351.205(e), the petitioner has stated the reasons for requesting a postponement of the preliminary determination, and Commerce finds no compelling reason to deny the request. Therefore, in accordance with section 703(c)(1)(A) of the Act, Commerce is postponing the deadline for the preliminary determination to no later than 130 days after the date on which this investigation was initiated, i.e., August 27, 2021. Pursuant to section 705(a)(1) of the Act and 19 CFR 351.210(b)(1), the deadline for the final determination of this investigation will continue to be 75 days after the date of the preliminary determination.

This notice is issued and published pursuant to section 703(c)(2) of the Act and 19 CFR 351.205(f)(1).

Dated: June 2, 2021.
Christian Marsh,
Acting Assistant Secretary for Enforcement and Compliance.

[FR Doc. 2021-11952 Filed 6-7-21; 8:45 am]

BILLING CODE 3510-DS-P